DEPARTMENT OF COMMERCE

Foreign-Trade Zones Board

[B-07-2017]

Foreign-Trade Zone (FTZ) 29—Louisville, Kentucky, Authorization of Production Activity, Amcor Flexibles L.L.C. (Flexible Packaging Production), Shelbyville, Kentucky

On January 11, 2017, the Louisville & Jefferson Country Riverport Authority, grantee of FTZ 29, submitted a notification of proposed production activity to the FTZ Board on behalf of Amcor Flexibles L.L.C., within FTZ 29, in Shelbyville, Kentucky.

The notification was processed in accordance with the regulations of the FTZ Board (15 CFR part 400), including notice in the Federal Register inviting public comment (82 FR 8506, January 26, 2017). On May 11, 2017, the applicant was notified of the FTZ Board's decision that no further review of the activity is warranted at this time. The production activity described in the notification is authorized, subject to the FTZ Act and the FTZ Board's regulations, including Section 400.14, except for the foreign-status component identified as “aluminum/plastic tear strip” due to insufficient information. The applicant may, however, submit another notification of proposed production activity with more detailed information for the foreign-status component in question.

Dated: June 8, 2017.
Andrew McGilvray,
Executive Secretary.

[FR Doc. 2017-12425 Filed 6-14-17; 8:45 am]

BILLING CODE 3510-DS-P